NATIONAL SCIENCE FOUNDATION (NSF)

Sunshine Act Meetings; National Science Board

The National Science Board (NSB), pursuant to NSF regulations (45 CFR part 614), the National Science Foundation Act, as amended, (42 U.S.C. 1862n-5), and the Government in the Sunshine Act (5 U.S.C. 552b), hereby gives notice of the scheduling of meetings for the transaction of NSB business as follows:

TIME AND DATE: Tuesday, May 5, 2020 from 11:00 a.m. to 6:00 p.m., and Wednesday, May 6, 2020 from 11:00 a.m. to 4:35 p.m. EDT.

PLACE: These meetings will be held by videoconference. There will be no in-person meetings to attend. The public may observe the public meetings, which will be streamed to the NSF You Tube channel. For meetings on Monday, May 5, go to: https://youtu.be/0Wu1pi6fDYc. For meetings on Tuesday, May 6, go to: https://youtu.be/agxFF9JB5pM.

STATUS: Some of these meetings will be open to the public. Others will be closed to the public. See full description below.

MATTERS TO BE CONSIDERED:

Tuesday, May 6, 2020

Plenary Board Meeting

Open Session:

11:00 a.m.-12:00 p.m.

12:15 a.m.-1:15 p.m.

• NSB Chair's Welcome

• Acting NSF Director's Remarks

• Vision 2030 Rollout

• NSF COVID-19 Briefing

Committee on External Engagement (EE)

Open Session: 1:15 p.m.-2:00 p.m.

• Committee Chair's Opening Remarks

• Approval of Prior Minutes

• Discussion of NSB Alumni Communication Network

• Update on SEI 2020 Engagement

• Vision 2030 External Engagement Plans

Committee on National Science and Engineering Policy (SEP)

Open Session: 2:30 p.m.-3:45 p.m.

• Committee Chair's Opening Remarks

• Approval of Prior SEP Minutes

• Update on Indicators 2020 Thematic Reports Publication

• Update on State Indicators

• Update on COVID-19 Impacts on NCSES and the Federal Data System

• Report on SEP Spring Retreat

• Discussion of Policy Products Stemming from SEI 2020

Task Force on Vision 2030 (Vision TF)

Open Session: 4:00 p.m.-4:45 p.m.

• Task Force Chair's Opening Remarks

• Approval of Prior Minutes

• Next Steps for Vision 2030

Committee on Strategy (CS)

Open Session: 5:00 p.m.-6:00 p.m.

• Committee Chair's Opening Remarks

• Approval of Prior Minutes

• Update on FY 2020 Current Plan, FY 2020 CARES Act, FY 2021 Appropriations

• NSF Briefing on U.S. Geopolitical Role in the Polar Regions

Wednesday, May 6, 2020

Committee on Oversight (CO)

Open Session: 11:00 a.m.-11:45 a.m.

• Committee Chair's Opening Remarks

• Approval of Committee Meeting Minutes

• Inspector General's Update

• Chief Financial Officer's Update

Committee on Awards and Facilities (A&F)

Open Session: 11:45 a.m.-12:20 p.m.

• Committee Chair's Opening Remarks

• Approval of Prior Minutes

• Rolling Calendar Year 2020-2021 Schedule of Planned Action and Context Items

• COVID-19 Infrastructure Brief

• Written Item: Update on the Ocean Observatories Initiative

Committee on Awards and Facilities (A&F)

Closed Session: 12:30 p.m.-2:00 p.m.

• Committee Chair's Opening Remarks

• Approval of Prior Minutes

• Action Item: Mid-scale Research Infrastructure Track 2 Portfolio

• Context Item: NSF's National Optical-Infrared Astronomy Research Laboratory (NOIR Lab)

• Written Item: COVID Facility Information on Finances and Personnel

Committee on Strategy (CS)

Closed Session: 2:30 p.m.-3:00 p.m.

• Committee Chair's Opening Remarks

• Approval of Prior Minutes

• Update on FY 2020 Current Plan, COVID-19 Spending, FY 2022 Planning

Plenary Board

Closed Session: 3:00 p.m.-3:15 p.m.

• NSB Chair's Opening Remarks

• Approval of Prior Minutes

• Acting NSF Director's Remarks

• Closed Committee Reports

• Vote: Midscale Research Infrastructure Track 2 Portfolio

Plenary Board (Executive)

Closed Session: 3:15 p.m.-3:45 p.m.

• NSB Chair's Opening Remarks

• Approval of Prior Minutes

• Acting NSF Director's Remarks

○ Personnel updates

• Board Member Award Affirmation

• Board Elections

Plenary Board

Open Session: 3:45 p.m.-4:35 p.m.

• NSB Chair's Opening Remarks

• Approval of Prior Minutes

• NSF Chief Operating Officer Remarks

○ Senior Staff Updates

○ Office of Legislative and Public Affairs Update

• Open Committee Reports

• Vote on Executive Committee Annual Report

• NSB Farewell to Outgoing Members

Meeting Adjourns: 4:45 p.m.

Meetings That Are Open to the Public:

Tuesday, May 5, 2020

11:00 a.m.-12:00 p.m. Plenary NSB

12:15 a.m.-1:15 p.m. Plenary NSB

1:15 p.m.-2:00 p.m. EE

2:30 p.m.-3:45 p.m. SEP

4:00 p.m.-4:45 p.m. Vision TF

5:00 p.m.-6:00 p.m. CS

Wednesday, May 6, 2020

11:00 a.m.-11:45 a.m. CO

11:45 a.m.-12:20 p.m. A&F

3:45 p.m.-4:35 p.m. Plenary

Meetings That Are Closed to the Public:

Wednesday, May 6, 2020

12:30 p.m.-2:00 p.m. A&F

2:30 p.m.-3:00 p.m. CS

3:00-3:15 p.m. Plenary

3:15 p.m.-3:45 p.m. Plenary Executive

CONTACT PERSONS FOR MORE INFORMATION: The NSB Office contact is Brad Gutierrez, bgutierr@nsf.gov, 703-292-7000. The NSB Public Affairs contact is Nadine Lymn, nlymn@nsf.gov, 703-292-2490. The following persons will be available to provide technical support in accessing the You Tube video: Angel Ntumy (antumy@associates.nsf.gov); Phillip Moulden (pmoulden@associates.nsf.gov).

SUPPLEMENTARY INFORMATION: Public portions of meetings will be streamed on You Tube so the public can view them. For meetings on Monday, May 5, go to: https://youtu.be/0Wu1pi6fDYc. For meetings on Tuesday, May 6, go to: https://youtu.be/agxFF9JB5pM.

Please refer to the NSB website for additional information. You will find any updated meeting information and schedule updates (time, place, subject matter, or status of meeting) at https://www.nsf.gov/nsb/meetings/notices.jsp#sunshine.

The NSB provides some flexibility around meeting times. After the first meeting of each day, a meeting may be allowed to run over by as much as 15 minutes if the Chair decides the extra time is warranted. The next meeting would start no later than 15 minutes after the noticed start time. For the May 2020 meetings, the NSB will not start any meetings earlier than the noticed start time.

Chris Blair,
Executive Assistant to the National Science Board Office.

[FR Doc. 2020-09363 Filed 4-28-20; 4:15 pm]

BILLING CODE 7555-01-P